ENVIRONMENTAL PROTECTION AGENCY

[EPA-HQ-OPPT-2017-0631; FRL-9977-66-OEI]

Agency Information Collection Activities; ICR Submitted to OMB for Review and Approval; Comment Request; Residential Lead-Based Paint Hazard Disclosure Requirements (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): Residential Lead-Based Paint Hazard Disclosure Requirements (EPA ICR Number 1710.08 and OMB Control No. 2070-0151). This is a request to renew the approval of an existing ICR, which is currently approved through October 31, 2018. EPA received one comment in response to the previously provided public review opportunity issued in the Federal Register of December 20, 2017. With this submission, EPA is providing an additional 30 days for public review and comment.

DATES: Comments must be received on or before November 23, 2018.

ADDRESSES: Submit your comments, identified by Docket ID number EPA-HQ-OPPT-2017-0631, to (1) EPA online using http://www.regulations.gov (our preferred method) or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: John Wilkins, National Program Chemicals Division (7404-T), Office of Pollution Prevention and Toxics, Environmental Protection Agency, 1200 Pennsylvania Ave. NW, Washington, DC 20460-0001; telephone number: (202) 566-0477; email address: wilkins.john@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This ICR is currently scheduled to expire on October 31, 2018. Under OMB regulations, the Agency may continue to conduct or sponsor the collection of information while this submission is pending at OMB. Under PRA, 44 U.S.C. 3501 et seq., an agency may not conduct or sponsor, and a person is not required to respond to, a collection of information unless it displays a currently valid OMB control number. The OMB control numbers are displayed either by publication in the Federal Register or by other appropriate means, such as on the related collection instrument or form, if applicable. The display of OMB control numbers for certain EPA regulations is consolidated in 40 CFR part 9.

Abstract: Section 1018 of the Residential Lead Based Paint Hazard Reduction Act of 1992 (42 U.S.C. 4852d) requires that sellers and lessors of most residential housing built before 1978 disclose known information on the presence of lead-based paint and lead-based paint hazards, and provide an EPA approved pamphlet to purchasers and renters before selling or leasing the housing. Sellers of pre-1978 housing are also required to provide prospective purchasers with ten days to conduct an inspection or risk assessment for lead-based paint hazards before obligating purchasers under contracts to purchase the property. The rule does not apply to rental housing that has been found to be free of lead-based paint, zero-bedroom dwellings, housing for the elderly, housing for the handicapped, or short-term leases. The affected parties and the information collection-related requirements related to each are described below:

1. Sellers of pre-1978 housing must attach certain notification and disclosure language to their sales/leasing contracts. The attachment lists the information disclosed and a statement of compliance by the seller, purchaser and any agents involved in the transaction.

2. Lessors of pre-1978 housing must attach notification and disclosure language to their leasing contracts. The attachment, which lists the information disclosed and a statement of compliance with all elements of the rule, must be signed by the lessor, lessee and any agents acting on their behalf. Agents and lessors must retain the information for three years from the completion of the transaction.

3. Agents acting on behalf of sellers or lessors are specifically required by Section 1018 to comply with the disclosure regulations described above.

Respondents may claim all or part of a notice confidential. EPA will disclose information that is covered by a claim of confidentiality only to the extent permitted by, and in accordance with, the procedures in TSCA section 14 and 40 CFR part 2.

Form numbers: None.

Respondents/affected entities: Persons engaged in selling or leasing certain residential dwellings built before 1978, or who are real estate agents representing such parties.

Respondent's obligation to respond: Mandatory (see 40 CFR part 790).

Estimated number of respondents: 21,504,926 (total).

Frequency of response: On occasion.

Total estimated burden: 5,952,344 hours (per year). Burden is defined at 5 CFR 1320.3(b).

Total estimated cost: $130,067,754 (per year), which includes $0 annualized capital investment or maintenance and operational costs.

Changes in the estimates: There is a decrease of 514,832 hours in the total estimated respondent burden compared with that identified in the ICR currently approved by OMB. This decrease to the estimated number of respondents based on updates to data sources, and revisions based on market factors.

Courtney Kerwin,
Director, Collection Strategies Division.

[FR Doc. 2018-23154 Filed 10-23-18; 8:45 am]

BILLING CODE 6560-50-P